DEPARTMENT OF TRANSPORTATION

Federal Aviation Administration

Space Transportation Infrastructure Matching (STIM) Grants Program

AGENCY: Federal Aviation Administration (FAA), DOT.

ACTION: Notice of non-availability of Space Transportation Infrastructure Matching Grants in FY 2013.

SUMMARY: The Office of Commercial Space Transportation (AST) will not solicit or award grants under the STIM program this fiscal year.

FOR FURTHER INFORMATION CONTACT: Doug Graham (AST-100), Office of Commercial Space Transportation (AST), 800 Independence Avenue SW., Room 331, Washington, DC 20591, telephone (202) 267-8568; Email doug.graham@faa.gov.

Issued in Washington, DC, on June 10, 2013.
George C. Nield,
Associate Administrator for Commercial Space Transportation.

[FR Doc. 2013-14859 Filed 6-20-13; 8:45 am]

BILLING CODE 4910-13-P